DEPARTMENT OF AGRICULTURE

Farm Service Agency

Information Collection; Online Registration for FSA-sponsored Events and Conferences

AGENCY: Farm Service Agency, USDA.

ACTION: Notice; request for comment.

SUMMARY: In accordance with the Paperwork Reduction Act of 1995, the Farm Service Agency (FSA) is seeking comments from all interested individuals and organizations on an extension without revision of the information collection associated with online registration for FSA-sponsored events and conferences. The information collection is needed for FSA to obtain information from the respondents who register on the Internet to make payment and reservations to attend any FSA-sponsored conferences and events.

DATES: Comments must be received on or before May 28, 2010.

ADDRESSES: We invite you to submit comments on this notice. In your comments, include date, volume, and page number of this issue of the Federal Register. You may submit comments by any of the following methods:

• Mail: Farm Service Agency, USDA, Office of External Affairs, Jeff Kerby, 1400 Independence Avenue, Mail Stop 0506, SW., Washington, DC 20250.

• E-mail: jeff.kerby@wdc.usda.gov.

• Fax: (202) 720-2979.

You may also send comments to the Desk Officer for Agriculture, Office of Information and Regulatory Affairs, Office of Management and Budget, Washington, DC 20503. Copies of the information collection may be requested by contacting Jeff Kerby at the above addresses.

FOR FURTHER INFORMATION CONTACT: Jeff Kerby, Office of External Affairs, (202) 720-1593.

SUPPLEMENTARY INFORMATION:

Description of Information Collection

Title: Online Registration for FSA-sponsored Events and Conferences.

OMB Number: 0560-0226.

Expiration Date of Approval: 05/31/2010.

Type of Request: Extension with no revision.

Abstract: The collection of information is necessary for people to register online to make payment and reservations to attend conferences and events. They can register on FSA's Online Registration site on the Internet. Respondents who do not have access to the Internet can register by mail or fax. The information is collected by the FSA employees who sponsor the conferences and events. The FSA is collecting common elements from interested respondents such as name, organization, address, country, phone number, State, city or town, payment options (cash, credit card, check) and special accommodations requests. The respondents are mainly individuals who are interested in attending the FSA-sponsored conferences or events. The information is used to collect payment from the respondents and make hotel reservations and other special arrangements as necessary.

Estimate of Annual Burden: 15 minutes.

Type of Respondents: Individuals.

Estimated Number of Respondents: 900.

Estimated Average Number of Responses per Respondent: 1.

Estimated Total Annual Number of Responses: 900.

Estimated Total Annual Burden on Respondents: 225 hours.

We are requesting comments on all aspects of this information collection and to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed at Washington, DC, March 18, 2010.
Jonathon W. Coppess,
Administrator, Farm Service Agency.

[FR Doc. 2010-6817 Filed 3-26-10; 8:45 am]

BILLING CODE 3410-05-P